DEPARTMENT OF HOUSING AND URBAN DEVELOPMENT

[Docket No. FR-7080-N-24]

30-Day Notice of Proposed Information Collection: HUD Environmental Review Online System (HEROS) OMB Control No.: 2506-0202

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: July 5, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. This is not a toll-free number. HUD welcomes and is prepared to receive calls from individuals who are deaf or hard of hearing, as well as individuals with speech or communication disabilities. To learn more about how to make an accessible telephone call, please visit https://www.fcc.gov/consumers/guides/telecommunications-relay-service-trs

Copies of available documents submitted to OMB may be obtained from Ms. Pollard.

SUPPLEMENTARY INFORMATION: This notice informs the public that HUD is seeking approval from OMB for the information collection described in Section A.

The Federal Register notice that solicited public comment on the information collection for a period of 60 days was published on February 28, 2024 at 89 FR 14676.

A. Overview of Information Collection

Title of Information Collection: HUD Environmental Review Online System (HEROS).

OMB Approval Number: 2506-0202.

Type of Request: Extension of currently approved collection.

Form Number: HUD 4755.

Description of the need for the information and proposed use: 24 CFR part 58, “Environmental Review Procedures for Entities Assuming HUD Environmental Responsibilities” requires Responsible Entities (including States, units of general local government, Indian tribes, territories, and Alaska native villages) receiving HUD assistance or carrying out environmental reviews for recipients to maintain a written environmental review record for all projects receiving HUD funding that is subject to Part 58 documenting compliance with the National Environmental Policy Act (NEPA), the regulations of the Council on Environmental Quality, related federal environmental laws, executive orders, and authorities, and Part 58 procedure. Various laws that authorize this procedure are listed in 24 CFR 58.1(b). 24 CFR part 50, “Protection and Enhancement of Environmental Quality,” implements procedures for HUD to perform environmental reviews for projects where Part 58 procedures are not permitted by law. Under Part 50, HUD staff complete the environmental review records, but they may use any information supplied by an applicant or contractor, provided HUD independently evaluates the information and is responsible for its accuracy and prepares the environmental finding. HEROS allows users to complete, store, and submit their environmental review records and documents online. HEROS is currently optional for Responsible Entities and many other non-HUD users, who may continue to use paper-based environmental review formats or provide information to HUD staff for the staff to input into HEROS; however, it is mandatory for some non-HUD users, such as those subject to the FHA Multifamily Accelerated Processing Guide (MAP Guide).

This information collection also contains a new form, HEROS Access Form. The HEROS Access Form is required for respondents to obtain access to HEROS. It is an electronic form that is hosted by the company DocuSign on their website. HUD uses the information collected in the HEROS Access Form to approve requests for access to HEROS. Respondents fill out the form with relevant information, which is then passed on to a HUD staff member who assists in creating a new HEROS user account for the respondent.

Respondents: The respondents are state, local, and tribal governments receiving HUD funding who are required to complete environmental reviews as well as sub-recipients, applicants, and third-party providers who submit information to be used in the completion of environmental review records. The specific data has been broken down into two data sets: data on the HEROS system itself (“HEROS”), and data on the HEROS Access Form which is required to gain access to HEROS.

HEROS
Information collection | Number of respondents | Frequency of response | Responses per annum | Burden hour per response | Annual burden hours | Hourly cost per response ¹ | Annual cost
Exempt/CENST reviews | 500 | 34.75 | 17,376 | 0.75 | 13,032 | $39.630 | $205,312.500
Reviews that convert to exempt | 500 | 12.35 | 6,147 | 2 | 12,294 | 39.630 | 292,000.000
CEST/EA reviews | 250 | 11.34 | 2,834 | 4 | 11,336 | 39.630 | 102,200.000
Total | 500 | varies | 26,357 | varies | 36,662 | 39.630 | 1,452,915.06

HEROS Access Form
Information collection | Number of respondents | Frequency of response | Responses per annum | Burden hour per response | Annual burden hours | Hourly cost per response | Annual cost
HEROS Access Form HUD 4755 | 2,870 | 1.05 | 3,013 | .10 | 301.3 | $39.63 | $11,940.52
Total | 2,870 | 1.05 | 3,013 | .10 | 301.3 | 39.63 | 11,940.52
Note: Average hours per response varies substantially depending on level of review. Reviews that are exempt or Categorically Excluded Not Subject To the related laws and authorities (CENST) take roughly 45 minutes to complete. Reviews that are Categorically Excluded Subject To the related laws (CEST) or require an Environmental Assessment (EA) take an average of 4 hours to complete. Some CEST reviews “convert to exempt,” and require roughly 2 hours to complete.

HUD grants ¹ cover all eligible costs including staff work. Hourly cost per response based on hourly mean wage of urban planners working for local government (Bureau of Labor Statistics, https://www.bls.gov/oes/current/oes193051.htm). This would apply only to those receiving HUD grants, and not to those receiving other forms of HUD assistance, such as lenders under FHA programs.

¹ Caveat to the monetary costs for HEROS: HUD grants cover all eligible costs, including staff work for grant recipients, so for HUD grants (as opposed to other forms of HUD assistance, such as FHA-backed multifamily mortgages) the monetary costs are typically $0 for all environmental review types.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2024-12288 Filed 6-4-24; 8:45 am]

BILLING CODE 4210-67-P